DEPARTMENT OF LABOR

Employment and Training Administration

[TA-W-50,094 and TA-W-50,094A]

Chiquola Industrial Products Group LLC, Honea Path, South Carolina and Chiquola Industrial Products Group LLC, Abbeville, South Carolina; Amended Certification Regarding Eligibility To Apply for Worker Adjustment Assistance

In accordance with Section 223 of the Trade Act of 1974 (19 U.S.C. 2273) the Department of Labor issued a Certification of Eligibility to Apply for Worker Adjustment Assistance on December 19, 2002, applicable to workers of Chiquola Industrial Products Group LLC, Honea Path, South Carolina. The notice will soon be published in the Federal Register.

At the request of a company official, the Department reviewed the certification for workers of the subject firm. The workers produced industrial fabrics. Information contained in the record shows that the company intended workers in Abbeville, South Carolina to be included in the certification. The workers at both South Carolina locations are considered by the company as one worker group. Data collected from the company official were for both locations.

It is the Department's intent to include all workers of Chiquola Industrial Products Group LLC, adversely affected by increased imports. Accordingly, the Department is amending the certification to include all workers of Chiquola Industrial Products Group LLC, located in Abbeville, South Carolina.

The amended notice applicable to TA-W-50,094 is hereby issued as follows:

“All workers of Chiquola Industrial Products Group LLC, Honea Path, South Carolina (TA-W-50,094) and Abbeville, South Carolina (TA-W-50,094A), who became totally or partially separated from employment on or after November 5, 2001, through December 19, 2004, are eligible to apply for adjustment assistance under Section 223 of the Trade Act of 1974.”

Signed at Washington, DC, this 14th day of January, 2003.
Linda G. Poole,
Certifying Officer, Division of Trade Adjustment Assistance.

[FR Doc. 03-2863 Filed 2-5-03; 8:45 am]

BILLING CODE 4510-30-P